DEPARTMENT OF AGRICULTURE

Rural Housing Service

Notice of Funds Availability (NOFA) Inviting Applications for the Rural Community Development Initiative (RCDI)

AGENCY: Rural Housing Service, USDA.

ACTION: Notice of solicitation of applications.

SUMMARY: This Notice announces the availability of $6 million of grant funds for the RCDI program through the Rural Housing Service (RHS), herein referred to as the Agency. Applicants must provide matching funds in an amount at least equal to the Federal grant. These grants will be made to qualified intermediary organizations that will provide financial and technical assistance to recipients to develop their capacity and ability to undertake projects related to housing, community facilities, or community and economic development. This Notice lists the information needed to submit an application for these funds.

DATES: The deadline for receipt of an application is 4 p.m. eastern standard time January 25, 2005. The application date and time are firm. The Agency will not consider any application received after the deadline.

ADDRESSES: Entities wishing to apply for assistance may download the application requirements delineated in this Notice from the RCDI Web site: http://www.rurdev.usda.gov/rhs/rcdi/index.htm. Applicants may also request application packages from: William Kenney, Rural Housing Service, Room 0183, Stop 0787, 1400 Independence Ave., SW., Washington, DC 20250-0787, Telephone (202) 720-1506, E-mail: william.kenney@usda.gov.

FOR FURTHER INFORMATION CONTACT: William Kenney, Senior Loan Specialist, Community Programs, RHS, USDA, STOP 0787, Rm. 0183, 1400 Independence Ave. SW., Washington, DC 20250-0787, Telephone (202) 720-1506, Facsimile (202) 690-0471, E-mail: william.kenney@usda.gov. You may also obtain information from the RCDI Web site: http://www.rurdev.usda.gov/rhs/rcdi/index.htm.

Programs Affected

This program is listed in the Catalog of Federal Domestic Assistance under Number 10.446. This program is not subject to the provisions of Executive Order 12372, which requires intergovernmental consultation with State and local officials.

Paperwork Reduction Act

The paperwork burden has been cleared by the Office of Management and Budget (OMB) under OMB Control Number 0575-0180.

SUPPLEMENTARY INFORMATION:

Overview

Federal Agency: Rural Housing Service.

Funding Opportunity Title: Rural Community Development Initiative.

Announcement Type: Initial Announcement.

Catalog of Federal Domestic Assistance (CFDA) Number: 10.446.

Items in Supplementary Information

I. Funding Opportunity Description: Brief Introduction to the RCDI Program

II. Awards Information: Available Funds

III. Eligibility Information: Eligible Applicants, Program Definitions, Cost Sharing or Matching, Program Requirements, Eligible Fund Uses, Ineligible Fund Uses, Program Example

IV. Application and Submission Information: Address to Request Application Package, Content and Form of Application Submission, Submission Dates and Times, Funding Restrictions

V. Application Review Information: Evaluation Criteria, Review and Selection Process

VI. Award Administration Information: General Information, Award Notice, Administrative and National Policy Requirements, Reporting

VII. Agency Contacts: Phone, Fax, E-Mail, Contact Name

VIII. Other Information: State Office Responsibilities, Grant Amount Determination, State Office Contacts, Grant Agreement

Part I—Funding Opportunity Description

Congress initially created the RCDI in fiscal year (FY) 2000 to develop the capacity and ability of nonprofit organizations, low-income rural communities, or federally recognized tribes to undertake projects related to housing, community facilities, or community and economic development in rural areas. Numerous changes have been made each year since.

Part II—Award Information

Congress appropriated $6 million in FY 2004 for the RCDI. Qualified private, non profit and public (including tribal) intermediary organizations proposing to carry out financial and technical assistance programs will be eligible to receive the funding. The intermediary will be required to provide matching funds in an amount at least equal to the RCDI grant. The respective minimum and maximum grant amount per intermediary is $50,000 and $500,000. The intermediary must provide a program of financial and technical assistance to a private nonprofit, community-based housing and development organization, a low-income rural community or a federally recognized tribe.

Part III—Eligibility Information

A. Eligible Applicants

Qualified private, non profit and public (including tribal) intermediary organizations. Definitions that describe eligible organizations and other key terms are listed below:

B. Program Definitions

Agency—the Rural Housing Service (RHS) or its successor.

Beneficiary—entities or individuals that receive benefits from assistance provided by the recipient.

Capacity—the ability of a recipient to finance and implement housing, community facilities, or community and economic development projects.

Federally recognized tribes—tribal entities recognized and eligible for funding and services from the Bureau of Indian Affairs, based on the Notice in the Federal Register published by the Bureau of Indian Affairs on December 5, 2003, (68 FR 68180). Tribally Designated Housing Entities are eligible RCDI recipients.

Financial assistance—funds used by the intermediary to support the recipient's program, including funds that pass through the intermediary to the recipient for eligible RCDI purposes.

Funds—the RCDI grant and matching money.

Intermediary—a qualified private, nonprofit, or public (including tribal) organization that provides financial and technical assistance to multiple recipients.

Low-income rural community—an authority, district, economic development authority, regional council, or unit of government representing an incorporated city, town, village, county, township, parish, or borough.

Recipient—the entity that receives the financial and technical assistance from the intermediary. The recipient must be a private nonprofit community-based housing and development organization, a low-income rural community, or a federally recognized tribe.

Rural and rural area—a city or town, that has a population of 50,000 inhabitants or less, other than the urbanized area contiguous and adjacent to such a city or town.

Technical assistance—skilled help in improving the recipient's abilities in the areas of housing, community facilities, or community and economic development. The Agency will determine whether a specific activity qualifies as technical assistance.

C. Cost Sharing or Matching

Matching funds—cash or confirmed funding commitments. Matching funds must be at least equal to the grant amount. These funds can only be used for eligible RCDI activities. In-kind contributions cannot be used as matching funds. Grant funds and matching funds must be used in equal proportions. This does not mean funds have to be used equally by line item. The request for reimbursement and supporting documentation must show that RCDI fund usage does not exceed the cumulative amount of matching funds used. Grant funds will be disbursed pursuant to relevant provisions of 7 CFR parts 3015, 3016, and 3019, as applicable.

Matching funds must be used to support the overall purpose of the RCDI program. RCDI funds will be disbursed on a reimbursable basis only. No advances will be made. Matching funds cannot be expended prior to execution of the RCDI Grant Agreement. No reimbursement will be made for any funds expended prior to execution of the RCDI Grant Agreement unless the grantee has requested and received written Agency approval of the costs prior to the actual expenditure. This exception is applicable for up to 90 days prior to grant closing and only applies to grantees that have received written approval but have not executed the RCDI Grant Agreement. The Agency cannot retroactively approve reimbursement for expenditures prior to execution of the RCDI Grant Agreement.

D. Other

Program Requirements

1. The recipient and beneficiary, but not the intermediary must be located in an eligible rural area. The location of the low-income rural community office that will be receiving the financial and technical assistance must be in a community with a median household income at or below, 80 percent of the State or national median household income, whichever is lower. The applicable Rural Development State Office can assist in determining the eligibility of an area. A listing of Rural Development State Offices is included in this Notice.

2. The recipients must be private nonprofit community-based housing and development organizations, low-income rural communities, or federally recognized tribes based on the RCDI definitions of these groups.

3. Documentation must be submitted to verify recipient eligibility. Acceptable documentation varies depending on the type of recipient: Private nonprofit community-based housing and development organizations must provide a letter confirming its tax-exempt status from the IRS, a certificate of incorporation and good standing from the Secretary of State, or other similar and valid documentation of nonprofit status; for low-income rural community recipients, the Agency requires: (a) Evidence the entity is a public body, and (b) census data verifying that the median household income of the community where the office receiving the financial and technical assistance is located is at, or below, 80 percent of the State or national median household income, whichever is lower; for federally recognized tribes, the Agency needs the page listing their name from the current Federal Register list of tribal entities recognized and eligible for funding services (see the definition of federally recognized tribes for details on this list).

4. Individuals cannot be recipients.

5. The intermediary must provide matching funds at least equal to the amount of the grant.

6. The intermediary must provide a program of financial and technical assistance to the recipient.

7. The intermediary organization must have been organized for a minimum of 3 years and have at least 3 years prior experience working with private nonprofit community-based housing and development organizationss, low-income rural communities, or tribal organizations in the areas of housing, community facilities, or community and economic development

8. Proposals must be structured to utilize the grant funds within 3 years from the date of the award.

9. Each intermediary, whether singularly or jointly, may only submit one application for RCDI funds under this NOFA unless the intermediary's participation is limited to providing all or part of the matching funds.

10. Recipients can participate in more than one RCDI application; however, after grant selections are made, the recipient can only participate in multiple RCDI grants if the type of financial and technical assistance they will receive is not duplicative.

11. The intermediary and the recipient cannot be the same entity. The recipient can be a related entity to the intermediary, if it meets the definition of a recipient.

12. A nonprofit recipient must provide evidence that it is a valid nonprofit when the intermediary applies for the RCDI grant. Organizations with pending requests for nonprofit designations are not eligible.

13. If the recipient is a low-income rural community, identify the unit of government to which the financial and technical assistance will be provided, e.g., town council or village board. The financial and technical assistance must be provided to the organized unit of government representing that community, not the community at large.

14. Nonprofit recipients located in a rural area that is also a census designated place (CDP) are eligible.

15. The indirect cost rate for the intermediary will be in accordance with OMB Circulars A-87, A-122, and A-133.

Eligible Fund Uses

Fund uses must be consistent with the RCDI purpose (see “Background” section of this Notice). A nonexclusive list of eligible grant uses includes the following:

1. Provide financial and technical assistance to develop recipients' capacity and ability to undertake projects related to housing, community facilities, or community and economic development, i.e., the intermediary hires a staff person to provide technical assistance to the recipient or the recipient hires a staff person, under the supervision of the intermediary, to carry out the financial and technical assistance provided by the intermediary.

2. Develop the capacity of recipients to conduct community development programs, e.g., homeownership education or training for business entrepreneurs.

3. Develop the capacity of recipients to conduct development initiatives, e.g., programs that support micro-enterprise and sustainable development.

4. Develop the capacity of recipients to increase their leveraging ability and access to alternative funding sources by providing training and staffing.

5. Develop the capacity of recipients to provide the financial and technical assistance component for essential community facilities projects.

6. Assist recipients in completing pre-development requirements for housing, community facilities, or community and economic development projects by providing resources for professional services, e.g., architectural, engineering, or legal.

7. Improve recipient's organizational capacity by providing training and resource material on developing strategic plans, board operations, management, financial systems, and information technology.

8. Purchase computers, software, and printers at the recipient level when directly related to the financial or technical assistance program being undertaken by the intermediary.

9. Provide funds to recipients for training-related travel costs and training expenses related to RCDI.

Ineligible Fund Uses

1. Funding a revolving loan fund (RLF).

2. Construction (in any form).

3. Intermediary preparation of strategic plans for recipients.

4. Funding illegal activities.

5. Grants to individuals.

6. Funding a grant where there may be a conflict of interest, or an appearance of a conflict of interest, involving any action by the Agency.

7. Paying obligations incurred before the beginning date or after the ending date of the grant agreement.

8. Purchasing real estate.

9. Improvement or renovation of the grantee's office space or for the repair or maintenance of privately owned vehicles.

10. Any other purpose prohibited in 7 CFR parts 3015, 3016, and 3019, as applicable.

11. Funds cannot be used for recipient's general operating costs.

12. Using grant or matching funds for Individual Development Accounts.

Program Examples

The purpose of this initiative is to develop or increase the recipient's capacity through a program of financial and technical assistance to perform in the areas of housing, community facilities, or community and economic development. Strengthening the recipient's capacity in these areas will benefit the communities they serve. The RCDI structure requires the intermediary (grantee) to provide a program of financial and technical assistance to recipients. The recipients will, in turn, provide programs to their communities (beneficiaries). The following are examples of eligible and ineligible purposes under the RCDI program. (These examples are illustrative and are not meant to limit the activities proposed in the application. Activities that meet the objective of the RCDI program will be considered eligible.)

1. The intermediary must work directly with the recipient, not the beneficiaries. As an example: the intermediary provides training to the recipient on how to conduct homeownership education classes. The recipient then provides ongoing homeownership education to the residents of the community—the ultimate beneficiaries. This “train the trainer” concept fully meets the intent of this initiative. The intermediary is providing financial and technical assistance that will build the recipient's capacity by enabling them to conduct homeownership education classes for the public. This is an eligible purpose. However, if the intermediary directly provided homeownership education classes to individuals in the recipient's service area, this would not be an eligible purpose because the recipient would be bypassed.

2. If the intermediary is working with a low-income community as the recipient, the intermediary must provide the financial and technical assistance to the entity that represents the low-income community and is identified in the application. Examples of entities representing a low-income community are a village board or a town council. If the intermediary provides technical assistance to the board of directors of the low-income community on how to establish a cooperative, this would be an eligible purpose. However, if the intermediary works directly with individuals from the community to establish the cooperative, this is not an eligible purpose. The recipient's capacity is built by learning skills that will enable them to support sustainable economic development in their communities on an ongoing basis.

3. The intermediary may provide technical assistance to the recipient on how to create and operate a RLF. The intermediary may not monitor or operate the RLF. RCDI funds, including matching funds, cannot be used to fund RLFs.

Part IV—Application and Submission Information

A. Address To Request Application Package

Entities wishing to apply for assistance may download the application requirements delineated in this Notice from the RCDI Web site: http://www.rurdev.usda.gov/rhs/rcdi/index.htm. Applicants may also request application packages from: William Kenney, Rural Housing Service, Room 0183, Stop 0787, 1400 Independence Ave. SW., Washington, DC 20250-0787, Telephone (202) 720-1506, E-mail: william.kenney@usda.gov.

B. Content and Form of Application Submission

A complete application for RCDI funds must include the following:

1. A summary page, double-spaced between items, listing the following: (This information should not be presented in narrative form.)

a. Applicant's name,

b. Applicant's address,

c. Applicant's telephone number,

d. Name of applicant's contact person and telephone number,

e. Applicant's fax number,

f. County where applicant is located,

g. Congressional district number where applicant is located,

h. Amount of grant request,

i. Applicant's Tax Identification Number,

j. Date Universal Numbering System (DUNS) number. (Applicant Only)

k. Number of recipients, and

l. Source and amount of matching funds.

2. A detailed Table of Contents containing page numbers for each component of the application.

3. A project overview, no longer than five pages, including the following items, which will also be addressed separately and in detail under “Building Capacity” of the “Evaluation Criteria.”

a. The type of financial and technical assistance to be provided and how it will be implemented.

b. How the capacity and ability of the recipients will be improved.

c. The overall goal to be accomplished.

d. The benchmarks to be used to measure the success of the program.

4. Organizational documents, such as a certificate of incorporation and good standing from the Secretary of State where the applicant is incorporated and other similar and valid documentation of non-profit status, for the intermediary that confirms it has been legally organized for a minimum of 3 years as the applicant entity.

5. Verification of matching funds, i.e., a copy of a bank statement if matching funds are in cash or a copy of the confirmed funding commitment from the funding source. The applicant will be contacted by the Agency prior to grant award to verify that the matching funds continue to be available. The applicant will have 10 working days from the date of contact to submit verification of matching funds. If the applicant is unable to provide the verification within that timeframe, the application will be considered ineligible.

6. Applicant should verify that they have a DUNS number or take the steps needed to obtain one as soon as possible. Applicant can receive a DUNS number at no cost by calling the dedicated toll-free DUNS Number request line at 1-866-705-5711.

7. The following information for each recipient:

a. Recipient's entity name,

b. Complete address (mailing and physical location, if different),

c. County where located,

d. Number of congressional district where recipient is located,

e. Contact person's name and telephone number, and

f. Documentation on the population composition of the service area of the recipient.

8. Submit evidence each recipient entity is eligible:

a. Nonprofits—provide a valid letter from the IRS, confirming certificate from the Secretary of State, or other valid documentation of nonprofit status of each recipient.

b. Low-income rural community—provide a copy of the 2000 census data to verify the population and evidence that the median household income is at, or below, 80 percent of either the State or national median household income, whichever is lower. We will only accept data from http://www.census.gov. The specific instructions to retrieve data from this site are detailed under the “Evaluation Criteria” for “Population” and “Income.”

c. Federally recognized tribes—provide the page listing their name from the current Federal Register list of tribal entities published on December 5, 2003, (68 FR 68180).

8. Each of the “Evaluation Criteria” must be addressed specifically and individually by category. Present these criteria in narrative form. Documentation must be limited to three pages per criterion with the exception of attachments for “Population” and “Income.”

9. A timeline identifying specific activities and proposed dates for completion.

10. A detailed project budget that includes the RCDI grant amount and matching funds for the duration of the grant. This should be a line-item budget, by category. Categories such as salaries, administrative, other, and indirect costs that pertain to the proposed project must be clearly defined. Supporting documentation listing the components of these categories must be included.

11. Form SF-424, “Application for Federal Assistance.” (Do not complete Form SF-424A, “Budget Information.” A separate line-item budget should be presented as described in No. 10 of this section.) The budget should be dated: year 1, year 2, year 3.

12. Form SF-424B, “Assurances—Non-Construction Programs.”

13. Form AD-1047, “Certification Regarding Debarment, Suspension, and Other Responsibility Matters—Primary Covered Transactions.”

14. Form AD-1048, “Certification Regarding Debarment, Suspension, Ineligibility and Voluntary Exclusion—Lower Tier Covered Transactions.”

15. Form AD-1049, “Certification Regarding Drug-Free Workplace Requirements.”

16. Certification of Non-Lobbying Activities.

17. Standard Form LLL, “Disclosure of Lobbying Activities,” if applicable.

18. Form RD 400-4, “Assurance Agreement,” for the applicant and each recipient.

19. Identify and report any association or relationship with Rural Development employees.

The required forms and certifications can be downloaded from the RCDI Web site at: http://www.rurdev.usda.gov/rhs/rcdi/index.htm.

C. Submission Dates and Times

The original application package must be submitted to: William Kenney, Rural Housing Service, STOP 0787, 1400 Independence Ave. SW., Washington, DC 20250-0787, and a copy of the application must be submitted to the Rural Development State Office where the applicant is located. A listing of Rural Development State Offices is included in this Notice. Applications sent electronically or by facsimile will not be accepted.

The deadline for receipt of an application is 4 p.m. eastern standard time on January 25, 2005. The application deadline date and hour are firm and apply to submission of the original application to the National Office in Washington, DC. The Agency will not consider any application received after the deadline. A listing of Rural Development State Offices, their addresses, telephone numbers, and person to contact is provided elsewhere in this Notice.

D. Funding Restrictions

Meeting expenses. In accordance with 31 U.S.C. 1345, “Expenses of Meetings,” appropriations may not be used for travel, transportation, and subsistence expenses for a meeting. RCDI grant funds cannot be used for these meeting-related expenses. Matching funds may be used to pay for these expenses. RCDI funds may be used to pay for a speaker as part of a program, equipment to facilitate the program, and the actual room that will house the meeting. RCDI funds can be used for travel, transportation, or subsistence expenses for training and technical assistance purposes. Any meeting or training not delineated in the application must be approved by the Agency to verify compliance with 31 U.S.C. 1345. Travel and per diem expenses will be similar to those paid to Agency employees. Rates are based upon location. Rate information can be accessed on the Internet at http://policyworks.gov/perdiem.

Grantees and recipients will be restricted to traveling coach class on common carrier airlines. Grantees and recipients may exceed the Government rate for lodging by a maximum of 20 percent. Meals and incidental expenses will be reimbursed at the same rate used by Agency employees. Mileage and gas reimbursement will be the same rate used by Agency employees. The current mileage and gas reimbursement rate is 37.5 cents per mile.

Part V—Application Review Information

A. Evaluation Criteria

Applications will be evaluated using the following criteria and weights:

1. Building Capacity—Maximum 60 Points

The applicant must demonstrate how they will improve the recipients' capacity, through a program of financial and technical assistance, as it relates to the RCDI purposes. Capacity-building technical assistance should provide new functions to the recipients or expand existing functions that will enable the recipients to undertake projects in the areas of housing, community facilities, or community and economic development that will benefit the community. The program of financial and technical assistance provided, how the program is delivered, and the measurability of the program's effectiveness will determine the merit of the application. All applications will be competitively ranked with the applications providing the most improvement in capacity development and measurable activities being ranked the highest. Capacity-building technical assistance may include, but is not limited to: training to conduct community development programs, e.g., homeownership education, or the establishment of minority business entrepreneurs, cooperatives, or micro-enterprises; organizational development, e.g., assistance to develop or improve board operations, management, and financial systems; instruction on how to develop and implement a strategic plan; instruction on how to access alternative funding sources to increase leveraging opportunities; staffing, e.g., hiring a person at intermediary or recipient level to provide technical or financial assistance to recipients; and purchase technology equipment at the recipient level, e.g., computers, printers, and software.

The narrative response must:

a. Describe the type of financial and technical assistance to be provided to the recipients and the activities that will be conducted to deliver the financial and technical assistance;

b. Explain how financial and technical assistance will develop or increase the recipient's capacity. Indicate whether a new function is being developed or if existing functions are being expanded or performed more effectively;

c. Identify which RCDI purpose areas will be addressed with this assistance: housing, community facilities, or community and economic development; and

d. Describe how the results of the financial and technical assistance will be measured. What benchmarks will be used to measure effectiveness?

e. Scoring—maximum of 60 points, broken down as follows:

1. Type of financial and technical assistance and implementation activities. 0-35 points.

a. How well defined is the purpose of this proposal?

b. Are the implementation activities specifically defined?

c. Will the proposed implementation activities actually develop the recipient's capacity?

2. How financial and technical assistance will develop capacity. 0-10 points.

a. Is a new function being developed and will it build capacity at the recipient level?

b. Is an existing function being expanded or performed more effectively and will it build capacity at the recipient level?

3. RCDI purpose. 0-5 points.

a. Housing,

b. Community facilities, or

c. Community and economic development.

4. Measuring outcomes. 0-10 points.

a. What benchmarks will be used to measure outcomes and effectiveness?

b. Are the proposed benchmarks an effective measurement for the type of financial and technical assistance provided?

2. Expertise—Maximum 30 Points

The applicant must demonstrate that it has conducted programs of financial and technical assistance and achieved measurable results in the areas of housing, community facilities, or community and economic development in rural areas. Provide the name, contact information, and amount of the financial and technical assistance the applicant organization has provided to the following for the last 5 years:

a. Nonprofit organizations in rural areas.

b. Low-income communities in rural areas, (also include the type of entity, e.g., city government, town council, or village board).

c. Federally recognized tribes or any other culturally diverse organizations.

d. Organization synopsis. Scoring—maximum 30 points.

1. The applicant has worked with groups in at least one of the three categories. 0-6 points.

2. The types of financial and technical assistance provided are similar to the RCDI purposes. 0-15 points.

3. The applicant demonstrates experience in working with the types of entities listed as recipients in the application. 0-9 points.

3. Population—Maximum 30 Points

Population is based on the 2000 census data for the community in which the recipient is located. Community is defined for scoring purposes as a city, town, village, county, parish, borough, or census-designated place where the recipient's office is physically located. The applicant must submit a copy of the census data from the following Web site to verify the population figures used for each recipient. The data can be accessed on the Internet at http://www.census.gov; click on “American FactFinder” from the left menu; click on “Fact Sheet” from the left menu; at the right, fill in one or more fields and click ‘Go'; print the Fact Sheet for submission for each recipient location. The average population of the recipient locations will be used and will be scored as follows:

Population | Scoring
5,000 or less | 30 points.
5,001 to 10,000 | 20 points.
10,001 to 20,000 | 10 points.
20,001 to 50,000 | 5 points.

4. Income—Maximum 30 Points

The average of the median household income for the communities where the recipients are physically located will determine the points awarded. Applicants may compare the average recipient median household income to the State median household income or the national median household income, whichever yields the most points. The national median household income to be used is $41,994. The applicant must submit a copy of the income data from the following Web site to verify the income for each recipient. The data being used is from the 2000 census. The data can be accessed on the Internet at http://www.census.gov; click on “American FactFinder” from the left menu; click on “Fact Sheet” from the left menu; at the right, fill in one or more fields and click ‘Go'; Income data for the recipient location can be highlighted on the Fact Sheet submitted for population. Points will be awarded as follows:

Average recipient median income is: | Scoring
Less than 60 percent of the State or national median household income | 30 points.
Between 60 and 70 percent of the State or national median household income | 20 points.
Greater than 70 percent of the State or national median household income | 10 points.

5. Innovative Approach—Maximum 20 Points

The applicant must demonstrate that it has developed an innovative approach that can be used by other organizations as a model. To be considered innovative, the approach must propose an easily replicated new or useful service or method of providing services to recipients that builds their capacity to improve their communities in the areas of housing, community facilities, or community and economic development. Points will be awarded to applications that have the highest score on the following factors:

a. Ease of replication by private nonprofit community-based housing and development organizations, low-income rural communities, or federally recognized tribes;

b. Uniqueness of proposal;

c. Financial return to rural communities; and

d. Need by private nonprofit community-based housing and development organization, low-income rural community, or federally recognized tribe.

If warranted, up to 20 applicants will be eligible to receive points in this category. The application ranking and scoring are:

Ranking | Scoring
10 highest-ranking applications for this criterion | 20 points.
Next 10 highest-ranking applications for this criterion | 10 points.

If there is a tied score, it will be resolved by using the format listed under “Rating and Ranking” under “Application Selection Process” elsewhere in this Notice.

6. Soundness of Approach—Maximum 50 Points

The applicant can receive up to 50 points for soundness of approach. The overall proposal will be considered under this criterion. Applicants must list the page numbers in the application that address these factors.

a. The ability to provide the proposed financial and technical assistance based on prior accomplishments has been demonstrated. 0-5 points.

b. The proposed financial and technical assistance program is clearly stated and the applicant has defined how this proposal will be implemented. The plan for implementation is viable. 0-20 points.

c. Cost effectiveness will be evaluated based on the budget in the application. The proposed grant amount and matching funds should be utilized to maximize capacity building at the recipient level. 0-15 points.

d. The proposal fits the objectives for which applications were invited. 0-10 points.

7. Geographic Distribution Points—20 Points.

The applicant must provide a map that specifically describes the areas covered by the recipients. After applications have been evaluated and awarded points under the first 6 criteria, the Agency may award 20 points per application to promote a broad geographic distribution of RCDI funds.

8. Purpose Distribution Points—20 Points

The applicant must state the primary purpose of the application, i.e., housing, community facilities, or community and economic development. After applications have been evaluated and awarded points under the first 6 criteria, the Agency may award 20 points per application to promote diversity of RCDI purposes.

9. Proportional Distribution Points—20 Points

The applicant must state the amount of the grant request. After applications have been evaluated and awarded points under the first 6 criteria, the Agency may award 20 points per application to promote distribution of grant awards between the range of $50,000 to $500,000.

B. Review and Selection Process

Rating and ranking. Applications will be rated and ranked by a review panel based on the “Evaluation Criteria and Weights” contained in this Notice. If there is a tied score after the applications have been rated and ranked, the tie will be resolved by reviewing the scores for “Building Capacity” and the applicant with the highest score in that category will receive a higher ranking. If the scores for “Building Capacity” are the same, the scores will be compared for the next criterion, in sequential order, until one highest score can be determined.

Initial screening. The Agency will screen each application to determine eligibility during the period immediately following the application deadline. Listed below are many of the reasons for rejection from the previous funding rounds to help the applicant prepare a better application. The following reasons for rejection are not all inclusive; however, they represent the majority of the applications previously rejected.

1. Recipients were not located in eligible rural areas based on the definition in this Notice.

2. Applicants failed to provide evidence of recipient's status, i.e., documentation supporting nonprofit evidence of organization.

3. Application did not follow the RCDI structure with an intermediary and recipients.

4. Recipients were not identified in the application.

5. Intermediary did not provide evidence it had been incorporated for at least 3 years as the applicant entity.

6. Applicants failed to address the “Evaluation Criteria.”

7. The purpose of the proposal did not qualify as an eligible RCDI purpose.

8. Funds cannot be used for construction or renovations.

9. Financial and technical assistance cannot be provided directly to individuals.

Part VI—Award Administration Information

A. General Information

Within the limit of funds available for such purpose, the awarding official of the Agency shall make grants to those responsible, eligible applicants whose applications are judged meritorious under the procedures set forth in this Notice.

B. Award Notice

Applicant will be notified of selection by letter. In addition, applicant will be requested to verify that components of the application have not changed. The award is not approved until all information has been verified, and the awarding official of the Agency has signed Form RD 1940-1, “Request for Obligation of Funds.”

C. Administrative and National Policy Requirements

Grantees will be required to do the following:

1. Execute a Rural Community Development Initiative Grant Agreement, which is published at the end of this NOFA.

2. Execute Form RD 1940-1, “Request for Obligation of Funds.”

3. Use Form SF 270, “Request for Advance or Reimbursement,” to request reimbursements.

4. Provide financial status and project performance reports on a quarterly basis starting with the first full quarter after the grant award.

5. Maintain a financial management system that is acceptable to the Agency.

6. Ensure that records are maintained to document all activities and expenditures utilizing RCDI grant funds and matching funds. Receipts for expenditures will be included in this documentation.

7. Provide annual audits or management reports on Form RD 442-2, “Statement of Budget, Income, and Equity,” and Form RD 442-3, “Balance Sheet,” depending on the amount of Federal funds expended and the outstanding balance.

8. Collect and maintain data provided by recipients on race, sex, and national origin and ensure recipients collect and maintain the same data on beneficiaries. Race and ethnicity data will be collected in accordance with OMB Federal Register notice, “Revisions to the Standards for the Classification of Federal Data on Race and Ethnicity,” Vol. 62, No. 210, October 30, 1997. Sex data will be collected in accordance with Title IX of the Education Amendments of 1972. These items should not be submitted with the application, but should be available upon request by the Agency.

9. Provide a final project performance report.

10. Identify and report any association or relationship with Rural Development employees on a format provided by the Agency.

11. A Civil Rights Impact Analysis Certification must be completed by the Agency prior to grant approval.

12. A pre-award compliance review will be conducted by the Agency prior to closing the grant.

13. The intermediary and recipient must comply with Title VI of the Civil Rights Act of 1964, Title IX of the Education Amendments of 1972, Section 504 of the Rehabilitation Act of 1973, and Executive Order 12250.

14. The grantee must comply with policies, guidance, and requirements as described in the following applicable OMB Circulars and Code of Federal Regulations:

a. OMB Circular No. A-87 (Cost Principles Applicable to Grants, Contracts and Other Agreements with State and Local Governments);

b. OMB Circular No. A-122 (Cost Principles for Nonprofit Organizations);

c. OMB Circular No. A-133 (Audits of States, Local Governments, and Non-Profit Organizations);

d. 7 CFR part 3015 (Uniform Federal Assistance Regulations);

e. 7 CFR part 3016 (Uniform Administrative Requirements for Grants and Cooperative Agreements to State and Local Governments); and

f. 7 CFR part 3019 (Uniform Administrative Requirements for Grants and Agreements with Institutions of Higher Education, Hospitals, and Other Nonprofit Organizations).

D. Reporting

Reporting requirements can be found in the Grant Agreement included in this Notice.

Part VII—Agency Contact

William Kenney, Rural Housing Service, Room 0183, Stop 0787, 1400 Independence Ave. SW., Washington, DC 20250-0787, Telephone (202) 720-1506, E-mail: william.kenney@usda.gov.

Part VIII—Other Information

Rural Development State Office Responsibilities During the Application Process

The State Office will review the application and provide the State Director's written comments and recommendations to the National Office. Comments must include the following:

1. Determine if each recipient listed in the application is located in an eligible rural area based on the RCDI definition of rural.

2. Consult with other program areas regarding their experience with the intermediary or recipients, if any.

3. Determine the compatibility of the application with the goals of the State's strategic plan.

4. Provide comments or recommendations pertaining to the application.

Comments must be submitted to William Kenney within 3 weeks from the RCDI application deadline.

Grant Amount Determination

In the event the applicant is awarded a grant that is less than the amount requested, the applicant will be required to modify its application to conform to the reduced amount before execution of the grant agreement. The Agency reserves the right to reduce or withdraw the award if acceptable modifications are not submitted by the awardee within 15 working days from the date the request for modification is made. Any modifications must be within the scope of the original application.

Rural Development State Office Contacts

Note: Telephone numbers listed are not toll-free.

Alabama State Office, Suite 601, Sterling Centre, 4121 Carmichael Road, Montgomery, AL 36106-3683, (334) 279-3400, TDD (334) 279-3495, James B. Harris.

Alaska State Office, 800 West Evergreen, Suite 201, Palmer, AK 99645, (907) 761-7705, TDD (907) 761-8905, Dean Stewart.

Arizona State Office, Phoenix Corporate Center, 3003 N. Central Ave., Suite 900, Phoenix, AZ 85012-2906, (602) 280-8747, TDD (602) 280-8705, Leonard Gradillas.

Arkansas State Office, 700 W. Capitol Ave., Rm. 3416, Little Rock, AR 72201-3225, (501) 301-3250, TDD (501) 301-3200, Jesse G. Sharp.

California State Office, 430 G Street, Agency 4169, Davis, CA 95616-4169, (530) 792-5810, TDD (530) 792-5848, Janice Waddell.

Colorado State Office, 655 Parfet Street, Room E100, Lakewood, CO 80215, 720-544-2903, TDD 720-544-2976, Scott Dare.

Connecticut, Served by Massachusetts State Office.

Delaware and Maryland State Office, 4607 South DuPont Highway, P.O. Box 400, Camden, DE 19934-0400, (302) 697-4300, TDD (302) 697-4303, James E. Waters.

Florida & Virgin Islands State Office, 4440 NW. 25th Place, P.O. Box 147010, Gainesville, FL 32614-7010, (352) 338-3440, TDD (352) 338-3499, Michael Langston.

Georgia State Office, Stephens Federal Building, 355 E. Hancock Avenue, Athens, GA 30601-2768, (706) 546-2171, TDD (706) 546-2034, Jerry M. Thomas.

Guam, Served by Hawaii State Office.

Hawaii, Guam, & Western Pacific Territories State Office, Room 311, Federal Building, 154 Waianuenue Avenue, Hilo, HI 96720, (808) 933-8380, TDD (808) 933-8321, Ted Matsuo.

Idaho State Office, 9173 West Barnes Dr., Suite A1, Boise, ID 83709, (208) 378-5617, TDD (208) 378-5600, Daniel H. Fraser.

Illinois State Office, 2118 West Park Court, Suite A, Champaign, IL 61821, (217) 403-6200, TDD (217) 403-6240, Gerald A. Townsend.

Indiana State Office, 5975 Lakeside Boulevard, Indianapolis, IN 46278, (317) 290-3100 (ext. 431), TDD (317) 290-3343, Gregg Delp.

Iowa State Office, 873 Federal Building, 210 Walnut Street, Des Moines, IA 50309, (515) 284-4663, TDD (515) 284-4858, Dorman Otte.

Kansas State Office, 1303 SW. First American Place, Suite 100, Topeka, KS 66604-4040, (785) 271-2730, TDD (785) 271-2767, Gary L. Smith.

Kentucky State Office, 771 Corporate Drive, Suite 200, Lexington, KY 40503, (859) 224-7415, TDD (859) 224-7300, Vernon Brown.

Louisiana State Office, 3727 Government Street, Alexandria, LA 71302, (318) 473-7940, TDD (318) 473-7920, Danny H. Magee.

Maine State Office, 967 Illinois Ave., Suite 4, P.O. Box 405, Bangor, ME 04402-0405, (207) 990-9106, TDD (207) 942-7331, Ron Lambert.

Maryland, Served by Delaware State Office.

Massachusetts, Connecticut, & Rhode Island State Office, 451 West Street, Amherst, MA 01002, (413) 253-4300, TDD (413) 253-7068, Daniel R. Beaudette.

Michigan State Office, 3001 Coolidge Road, Suite 200, East Lansing, MI 48823, (517) 324-5192, TDD (517) 337-6795, Philip H. Wolak.

Minnesota State Office, 410 AgriBank Building, 375 Jackson Street, St. Paul, MN 55101-1853, (651) 602-7800, TDD (651) 602-3799, Rick Jackson.

Mississippi State Office, Federal Building, Suite 831, 100 W. Capitol Street, Jackson, MS 39269, (601) 965-4316, TDD (601) 965-5850, Bette Oliver.

Missouri State Office, 601 Business Loop 70 West, Parkade Center, Suite 235, Columbia, MO 65203, (573) 876-0995, TDD (573) 876-9480, D. Clark Thomas.

Montana State Office, 900 Technology Blvd., Suite B, Bozeman, MT 59771, (406) 585-2530, TDD (406) 585-2562, Mitchell Copp.

Nebraska State Office, Federal Building, Room 152, 100 Centennial Mall N., Lincoln, NE 68508, (402) 437-5559, TDD (402) 437-5551, Denise Brosius-Meeks.

Nevada State Office, 1390 South Curry Street, Carson City, NV 89703-9910, (775) 887-1222 (ext. 26), TDD (775) 885-0633, Mike Holm.

New Hampshire State Office, Concord Center, Suite 218, Box 317, 10 Ferry Street, Concord, NH 03301-5004, (603) 223-6055, TDD (603) 223-6083, Everett Bailey.

New Jersey State Office, 8000 Midlantic Drive, 5th Floor North, Suite 500, Mt. Laurel, NJ 08054, (856) 787-7750, Michael P. Kelsey.

New Mexico State Office, 6200 Jefferson St. NE., Room 255, Albuquerque, NM 87109, (505) 761-4950, TDD (505) 761-4938, Clyde F. Hudson.

New York State Office, The Galleries of Syracuse, 441 S. Salina Street, Suite 357, Syracuse, NY 13202-2541, (315) 477-6400, TDD (315) 477-6447, Gail Giannotta.

North Carolina State Office, 4405 Bland Road, Suite 260, Raleigh, NC 27609, (919) 873-2000, TDD (919) 873-2003, Phyllis Godbold.

North Dakota State Office, Federal Building, Room 208, 220 East Rosser, P.O. Box 1737, Bismarck, ND 58502-1737, (701) 530-2037, TDD (701) 530-2113, Donald Warren.

Ohio State Office, Federal Building, Room 507, 200 North High Street, Columbus, OH 43215-2418, (614) 255-2400, TDD (614) 255-2554, David M. Douglas.

Oklahoma State Office, 100 USDA, Suite 108, Stillwater, OK 74074-2654, (405) 742-1000, TDD (405) 742-1007, Michael W. Schrammel.

Oregon State Office, 101 SW. Main, Suite 1410, Portland, OR 97204-3222, (503) 414-3300, TDD (503) 414-3387, Joe Sahlfeld.

Pennsylvania State Office, One Credit Union Place, Suite 330, Harrisburg, PA 17110-2996, (717) 237-2299, TDD (717) 237-2261, Gary Rothrock.

Puerto Rico State Office, IBM Building—Suite 601, 654 Munos Rivera Avenue, Hato Rey, PR 00918-6106, (787) 766-5095, TDD (787) 766-5332, Ramon Melendez.

Rhode Island, Served by Massachusetts State Office.

South Carolina State Office, Strom Thurmond Federal Building, 1835 Assembly Street, Room 1007, Columbia, SC 29201, (803) 253-5163, TDD (803) 765-5697, Larry D. Floyd.

South Dakota State Office, Federal Building, Room 210, 200 Fourth Street, SW., Huron, SD 57350, (605) 352-1100, TDD (605) 352-1147, Sandra Mencke.

Tennessee State Office, Suite 300, 3322 West End Avenue, Nashville, TN 37203-1084, (615) 783-1300, TDD (615) 783-1397, Keith Head.

Texas State Office, Federal Building, Suite 102, 101 South Main, Temple, TX 76501, (254) 742-9700, TDD (254) 742-9712, Francesco Valentin.

Utah State Office, Wallace F. Bennett Federal Building, 125 South State Street, Room 4311, P.O. Box 11350, Salt Lake City, UT 84147-0350, (801) 524-4326, TDD (801) 524-3309, Bonnie Carrig.

Vermont State Office, City Center, 3rd Floor, 89 Main Street, Montpelier, VT 05602, (802) 828-6000, TDD (802) 223-6365, Rhonda Shippee.

Virgin Islands, Served by Florida State Office.

Virginia State Office, Culpeper Building, Suite 238, 1606 Santa Rosa Road, Richmond, VA 23229, (804) 287-1550, TDD (804) 287-1753, Carrie Schmidt.

Washington State Office, 1835 Black Lake Boulevard, SW., Suite B, Olympia, WA 98512-5715, (509) 664-0203, Sandi Boughton.

Western Pacific Territories, Served by Hawaii State Office.

West Virginia State Office, Federal Building, 75 High Street, Room 320, Morgantown, WV 26505-7500, (304) 284-4860, TDD (304) 284-4836, Dianne Crysler.

Wisconsin State Office, 4949 Kirschling Court, Stevens Point, WI 54481, (715) 345-7614, TDD (715) 345-7610, Mark Brodziski.

Wyoming State Office, Federal Building, Room 1005, 100 East B, P.O. Box 820, Casper, WY 82602, (307) 261-6300, TDD (307) 261-6333, Jack Hyde.

Dated: October 9, 2004.
Russell T. Davis,
Administrator, Rural Housing Service.

OMB NO. 0575-0180

United States Department of Agriculture, Rural Housing Service, Rural Community Development Initiative Grant Agreement

THIS GRANT AGREEMENT (Agreement), effective the date the Agency official signs the document, is a contract for receipt of grant funds under the Rural Community Development Initiative (RCDI).

BETWEEN

a private or public or tribal organization, (Grantee or Intermediary) and the United States of America acting through the Rural Housing Service (the Agency), Department of Agriculture, (Grantor), for the benefit of recipients listed in Grantee's application for the grant.

WITNESSETH:

The principal amount of the grant is $____ (Grant Funds). Matching funds, in an amount equal to the grant funds, will be provided by Grantee. The Grantee and Grantor will execute Form RD 1940-1, “Request for Obligation of Funds.”

Whereas,

Grantee will provide a program of financial and technical assistance to develop the capacity and ability of nonprofit organizations, low-income rural communities, or federally recognized tribes to undertake projects related to housing, community facilities, or community and economic development in rural areas;

According to the Paperwork Reduction Act of 1995, no persons are required to respond to a collection of information unless it displays a valid OMB control number. The valid OMB control number for this information collection is 0575-0180. The time required to complete this information collection is estimated to average 30 minutes per response, including the time for reviewing instructions, searching existing data sources, gathering and maintaining the data needed, and reviewing the collection of information.

Now, therefore, in consideration of the grant;

Grantee agrees that Grantee will:

A. Provide a program of financial and technical assistance in accordance with the proposal outlined in the application, (see Attachment A), the terms of which are incorporated with this Agreement and must be adhered to. Any changes to the approved program of financial technical assistance must be approved in writing by the Grantor;

B. Use Grant Funds only for the purposes and activities specified in the application package approved by the Agency including the approved budget. Any uses not provided for in the approved budget must be approved in writing by the Agency in advance;

C. Charge expenses for travel and per diem that will not exceed the rates paid Agency employees for similar expenses. Grantees and recipients will be restricted to traveling coach class on common carrier airlines. Lodging rates may exceed the Government rate by a maximum of 20 percent. Meals and incidental expenses will be reimbursed at the same rate used by Agency employees, which is based upon location. Mileage and gas will be reimbursed at the existing Government rate. Rates can be accessed on the Internet at http://policyworks.gov/perdiem;

D. Charge meeting expenses in accordance with 31 U.S.C. 1345. Grant funds may not be used for travel, transportation, and subsistence expenses for a meeting. Matching funds may be used to pay these expenses. Any meeting or training not delineated in the application must be approved by the Agency to verify compliance with 31 U.S.C. 1345.

E. Request quarterly reimbursement for grant activities during the previous quarter. Reimbursement will be made on a pro rata basis with matching funds. Form SF 270, “Request for Advance or Reimbursement,” will be used to request reimbursement. A project performance report, in narrative form, and a financial report, reflecting the activities conducted, must accompany the request for reimbursement. Matching fund usage must be included in all reports.

F. Provide periodic reports as required by the Grantor. A financial status report and a project performance report will be required on a quarterly basis (due 30 working days after each calendar quarter). The financial status report must show how grant funds and matching funds have been used to date. A final report may serve as the last quarterly report. Grantees shall constantly monitor performance to ensure that time schedules are being met and projected goals by time periods are being accomplished. The project performance reports shall include, but are not limited to, the following:

1. Describe the activities that the funds reflected in the financial status report were used for;

2. A comparison of actual accomplishments to the objectives for that period;

3. Reasons why established objectives were not met, if applicable;

4. Problems, delays, or adverse conditions which will affect attainment of overall program objectives, prevent meeting time schedules or objectives, or preclude the attainment of particular objectives during established time periods. This disclosure shall be accomplished by a statement of the action taken or planned to resolve the situation;

5. Objectives and timetables established for the next reporting period;

6. If available, a summary of the race, sex, and national origin of the recipients and a summary from the recipients of the race, sex, and national origin of the beneficiaries; and

7. The final report will also address the following:

(a) What have been the most challenging or unexpected aspects of this program?

(b) What advice would you give to other organizations planning a similar program? Please include strengths and limitations of the program. If you had the opportunity, what would you have done differently?

(c) Are there any post-grant plans for this project? If yes, how will they be financed?

(d) If an innovative approach was used successfully, the grantee must describe their program in detail for replication by other organizations and communities.

G. Consider potential recipients without discrimination as to race, color, religion, sex, national origin, age, marital status, sexual orientation, or physical or mental disability;

H. Ensure that any services or training offered by the recipient, as a result of the financial and technical assistance received, must be made available to all persons in the recipient's service area without discrimination as to race, color, religion, sex, national origin, age, marital status, sexual orientation, or physical or mental disability at reasonable rates, including assessments, taxes, or fees. Programs and activities must be delivered from accessible locations. The recipient must ensure that, where there are non-English speaking populations, materials are provided in the language that is spoken;

I. Ensure recipients are required to place nondiscrimination statements in advertisements, notices, pamphlets and brochures making the public aware of their services. The Grantee and recipient are required to provide widespread outreach and public notification in promoting any type of training or services that are available through grant funds;

J. The Grantee must collect and maintain data on recipients by race, sex, and national origin. The grantee must ensure that their recipients also collect and maintain data on beneficiaries by race, sex, and national origin as required by Title VI of the Civil Rights Act of 1964 and must be provided to the Agency for compliance review purposes;

K. Upon any default under its representations or agreements contained in this instrument, Grantee, at the option and demand of Grantor, will immediately repay to Grantor any legally permitted damages together with any legally permitted interest from the date of the default. At Grantor's election, any default by the Grantee will constitute termination of the grant thereby causing cancellation of Federal assistance under the grant. The provisions of this Agreement may be enforced by Grantor, without regard to prior waivers of this Agreement, by proceedings in law or equity, in either Federal or State courts as may be deemed necessary by Grantor to ensure compliance with the provisions of this Agreement and the laws and regulations under which this grant is made;

L. Provide Financial Management Systems that will include:

1. Accurate, current, and complete disclosure of the financial results of each grant. Financial reporting will be on an accrual basis;

2. Records that identify adequately the source and application of funds for grant-supported activities. Those records shall contain information pertaining to grant awards and authorizations, obligations, unobligated balances, assets, liabilities, outlays, and income related to Grant Funds and matching funds;

3. Effective control over and accountability for all funds, property, and other assets. Grantees shall adequately safeguard all such assets and shall ensure that they are used solely for authorized purposes;

4. Accounting records supported by source documentation; and

5. Grantee tracking of fund usage and records that show matching funds and grant funds are used in equal proportions. The grantee will provide verifiable documentation regarding matching fund usage, i.e., bank statements or copies of funding obligations from the matching source.

M. Retain financial records, supporting documents, statistical records, and all other records pertinent to the grant for a period of at least three years after grant closing except that the records shall be retained beyond the three-year period if audit findings have not been resolved. Microfilm or photocopies or similar methods may be substituted in lieu of original records. The Grantor and the Comptroller General of the United States, or any of their duly authorized representatives, shall have access to any books, documents, papers, and records of the Grantee's which are pertinent to the specific grant program for the purpose of making audits, examinations, excerpts, and transcripts;

N. Provide an A-133 audit report if $500,000 or more of Federal funds are expended in a 1-year period. If Federal funds expended during a 1-year period are less than $500,000 and there is an outstanding loan balance of $500,000 or more, an audit in accordance with generally accepted government auditing standards is required. If Federal funds expended during a 1-year period are less than $500,000 and there is an outstanding loan balance of less than $500,000, a management report may be submitted on Forms RD 442-2, “Statement of Budget, Income and Equity,” and 442-3, “Balance Sheet”;

O. Not encumber, transfer, or dispose of the equipment or any part thereof, acquired wholly or in part with Grantor funds without the written consent of the Grantor; and

P. Not duplicate other program activities for which monies have been received, are committed, or are applied to from other sources (public or private).

Grantor agrees that:

A. It will make available to Grantee for the purpose of this Agreement funds in an amount not to exceed the Grant Funds. The funds will be disbursed to Grantee on a pro rata basis with the Grantee's matching funds; and

B. At its sole discretion and at any time may give any consent, deferment, subordination, release, satisfaction, or termination of any or all of Grantee's grant obligations, with or without valuable consideration, upon such terms and conditions as Grantor may determine to be:

1. Advisable to further the purpose of the grant or to protect Grantor's financial interest therein; and

2. Consistent with both the statutory purposes of the grant and the limitations of the statutory authority under which it is made.

Both Parties Agree:

A. Extensions of this grant agreement may be approved by the Agency, in writing, provided in the Agency's sole discretion the extension is justified and there is a likelihood that the grantee can accomplish the goals set out and approved in the application package during the extension period;

B. The Grantor must approve any changes in recipient or recipient composition;

C. The Grantor has agreed to give the Grantee the Grant Funds, subject to the terms and conditions established by the Grantor: Provided however, That any Grant Funds actually disbursed and not needed for grant purposes be returned immediately to the Grantor. This agreement shall terminate 3 years from this date unless extended or unless terminated beforehand due to default on the part of the Grantee or for convenience of the Grantor and Grantee. The Grantor may terminate the grant in whole, or in part, at any time before the date of completion, whenever it is determined that the Grantee has failed to comply with the conditions of this Agreement or the applicable regulations;

D. As a condition of the Agreement, the Grantee certifies that it is in compliance with, and will comply in the course of the Agreement with, all applicable laws, regulations, Executive Orders, and other generally applicable requirements, which are incorporated into this agreement by reference, and such other statutory provisions as are specifically contained herein. The Grantee will comply with title VI of the Civil Rights Act of 1964, section 504 of the Rehabilitation Act of 1973, and Executive Order 12250;

E. The Grantee will ensure that the recipients comply with title VI of the Civil Rights Act of 1964, section 504 of the Rehabilitation Act of 1973 and Executive Order 12250. Each recipient must sign Form RD 400-4, “Assurance Agreement”;

F. The provisions of 7 CFR part 3015, “Uniform Federal Assistance Regulations,” part 3016, “Uniform Administrative Requirements for Grants and Cooperative Agreements to State and Local Governments,” or part 3019, “Uniform Administrative Requirements for Grants and Agreements with Institutions of Higher Education, Hospitals, and Other Nonprofit Organizations,” and the fiscal year 2003 “Notice of Funds Availability (NOFA) Inviting Applications for the Rural Community Development Initiative (RCDI)” are incorporated herein and made a part hereof by reference; and

G. This Agreement may be terminated for cause in the event of default on the part of the Grantee or for convenience of the Grantor and Grantee prior to the date of completion of the grant purpose. Termination for convenience will occur when both the Grantee and Grantor agree that the continuation of the program will not produce beneficial results commensurate with the further expenditure of funds.

In Witness Whereof, Grantee has this day authorized and caused this Agreement to be executed by

Attest

By

(Grantee)

(Title)

Date

UNITED STATES OF AMERICA RURAL HOUSING SERVICE

By

(Grantor) (Name) (Title)

Date

Attachment A

[Application proposal submitted by grantee.]

[FR Doc. 04-24013 Filed 10-26-04; 8:45 am]

BILLING CODE 3410-XV-P